DEPARTMENT OF EDUCATION

Office of Innovation and Improvement; Overview Information; Promise Neighborhoods Program

Notice inviting applications for new awards for fiscal year (FY) 2010.

Catalog of Federal Domestic Assistance (CFDA) Number: 84.215P.

Dates:

Applications Available: May 5, 2010.

Deadline for Notice of Intent to Apply: May 21, 2010.

Date of Pre-Application Webinars: Wednesday, May 5, 2010 and Monday, May 10, 2010.

Deadline for Transmittal of Applications: June 25, 2010.

Deadline for Intergovernmental Review: August 24, 2010.

Full Text of Announcement

I. Funding Opportunity Description

Purpose of Program: The Department of Education Appropriations Act, 2010 provided funds for Promise Neighborhoods under the legislative authority of the Fund for the Improvement of Education Program (FIE), title V, part D, subpart 1, sections 5411 through 5413 of the Elementary and Secondary Education Act of 1965, as amended (ESEA) (20 U.S.C. 7243-7243b). FIE supports nationally significant programs to improve the quality of elementary and secondary education at the State and local levels and help all children meet challenging State academic content and student academic achievement standards.

The purpose of Promise Neighborhoods is to improve significantly the educational and developmental outcomes of children in our most distressed communities, and to transform those communities by—

(1) Supporting efforts to improve child outcomes and ensure that data on those outcomes are communicated and analyzed on an ongoing basis by leaders and members of the community;

(2) Identifying and increasing the capacity of eligible entities (as defined in this notice) that are focused on achieving results and building a college-going culture (as defined in this notice) in the neighborhood;

(3) Building a complete continuum of cradle-through-college-to-career solutions (continuum of solutions) (as defined in this notice), which has both academic programs and family and community supports (both as defined in this notice), with a strong school or schools at the center. Academic programs must include (a) High-quality early learning programs designed to improve outcomes in multiple domains of early learning (as defined in this notice); (b) programs, policies, and personnel for children in kindergarten through the 12th grade that are linked to improved academic outcomes; and (c) programs that prepare students for college and career success. Family and community supports must include programs to improve student health, safety, community stability, family and community engagement, and student access to 21st century learning tools. The continuum of solutions also must be linked and integrated seamlessly (as defined in this notice) so there are common outcomes, a focus on similar milestones, support during transitional time periods, and no time or resource gaps that create obstacles for students in making academic progress. The continuum also must be based on the best available evidence including, where available, strong or moderate evidence (as defined in this notice), and include programs, policies, practices, services, systems, and supports that result in improving educational and developmental outcomes for children from cradle through college to career;

(4) Integrating programs and breaking down agency “silos” so that solutions are implemented effectively and efficiently across agencies;

(5) Supporting the efforts of eligible entities, working with local governments, to build the infrastructure of policies, practices, systems, and resources needed to sustain and “scale up” proven, effective solutions across the broader region beyond the initial neighborhood; and

(6) Learning about the overall impact of Promise Neighborhoods and about the relationship between particular strategies in Promise Neighborhoods and student outcomes, including a rigorous evaluation of the program.

Background: Children who are from low-income families and grow up in high-poverty neighborhoods face academic and life challenges above and beyond the challenges faced by children who are from low-income families who grow up in neighborhoods without a high concentration of poverty. A Federal evaluation of the reading and mathematics outcomes of elementary students in 71 schools in 18 districts and 7 States found that even when controlling for individual student poverty, there is a significant negative association between school-level poverty and student achievement.¹ The evaluation found that students have lower academic outcomes when a higher percentage of their same-school peers qualify for free and reduced-priced lunch (FRPL) compared to when a lower percentage of their same-school peers qualify for FRPL. Another study found that, even when controlling for a student's own socioeconomic status, there is a significant negative association between individual student achievement growth during high school and the socioeconomic status of students in the school.² The compounding effects of neighborhood poverty continue later in life: A third study found that, for children with similar levels of family income, growing up in a neighborhood where the number of families in poverty was between 20 and 30 percent increased the chance of downward economic mobility—moving down the income ladder relative to their parents—by more than 50 percent compared with children who grew up in neighborhoods with under 10 percent of families in poverty.³

¹ Westat and Policy Studies Associate. The longitudinal evaluation of school change and performance (LESCP) in title I schools. Prepared for the U.S. Department of Education. Available January 2010 online at http://www.policystudies.com/studies/school/lescp_vol2.pdf.

² Rumberger, Russell W., & Palardy, G. J. “Does segregation still matter? The impact of student composition on academic achievement in high school,” Teacher College Record, 107(9), Sept 2005.

³ Sharkey, Patrick. “Neighborhoods and the Black-White Mobility Gap.” Economic Mobility Project: An Initiative of The Pew Charitable Trusts, 2009.

Because challenges in distressed communities with high concentrations of poverty are interrelated, the Department, through the Promise Neighborhoods Program, is taking a comprehensive approach to ensure that children have access to a continuum of cradle-through-college-to-career solutions designed to support academic achievement, healthy development, and college and career success.

To effectively improve outcomes for children in these distressed communities, schools, academic programs, and family and community supports must include several core features:

(a) Organizations and schools implementing academic programs and family and community supports that have the capacity to collect, analyze, and use data to evaluate their efforts.

(b) Academic programs, family and community supports, and schools that work together and closely integrate their efforts so that time and resource gaps that contribute to children missing academic and developmental milestones do not occur.

(c) Academic programs and family and community supports that are managed, directly or indirectly, by a leader and an organization that can engage the community and are accountable for results.

(d) Schools, academic programs, and family and community supports that are implemented by using a “place-based” approach that leverages investments by focusing resources in targeted places, drawing on the compounding effect of well-coordinated actions.⁴

⁴ Memorandum from the Office of Management and Budget (OMB). Developing Effective Place-Based Policies for the FY 2011 Budget. August, 11, 2009. Available online at http://www.whitehouse.gov/omb/assets/memoranda_fy2009/m09-28.pdf.

Consistent with this approach, we believe that it is important for communities to develop a comprehensive neighborhood revitalization strategy that addresses each of the essential neighborhood assets (as defined in this notice), which include accessible developmental, commercial, recreational, physical, and social assets that are vital to transforming distressed neighborhoods into healthy and vibrant communities of opportunity. We believe that Promise Neighborhoods will be most successful when they are part of, and contributing to, a city's or region's broader neighborhood revitalization strategy. Because Promise Neighborhoods focuses on accessible, high-quality academic programs, effective schools, and family and community supports, which are all primarily developmental assets, the program is a Federal investment designed, in part, to support the implementation of a broader comprehensive neighborhood revitalization strategy. Only through the development of such comprehensive neighborhood revitalization plans, which embrace the coordinated use of programs and resources to effectively address the interrelated needs within a community, will the broader vision of neighborhood transformation occur.

Through this notice, the Department is establishing priorities and requirements, and inviting applications, for one-year grants that will support the development of a plan to implement a Promise Neighborhood. At the conclusion of the planning grant period, grantees should, at a minimum, have a feasible plan to implement a continuum of solutions with the potential to improve results for children in the community being served.

To be eligible for a planning grant, an eligible entity must operate a school or partner with at least one school, and coordinate with the school's local educational agency (LEA). The school or schools must be in a geographically defined area in which there are multiple signs of distress based on indicators of need (as defined in this notice) and other relevant indicators. Examples of signs of distress are low-performing schools (as defined in this notice); significant achievement gaps among the subgroups of students identified in section 1111(b)(3)(C)(xiii) of the ESEA; high dropout rates; significant levels of child poverty; high student mobility rates; high rates of crime, including violent crime; high rates of vacant or substandard homes; and prevalent indicators of poor health, such as asthma, poor nutrition, dental problems, obesity, or avoidable developmental delays (e.g., delays in cognitive, communication, adaptive, physical, and socio-emotional development).

As described in this notice, Promise Neighborhoods planning grantees will undertake the following activities during the planning year:

(1) Conduct a comprehensive needs assessment of children along the cradle-through-college-to-career continuum that builds on the statement of need prepared to address the selection criteria in this notice, and includes the collection of data for the academic and family and community support indicators described in this notice for children in the geographic area ⁵ proposed to be served.

⁵ For the purposes of this notice, the Department uses the terms “neighborhood” and “geographic area” interchangeably.

(2) Conduct a segmentation analysis (as defined in this notice) of the needs in the neighborhood to better target solutions for the children in that neighborhood.

(3) Develop a plan to deliver the continuum of solutions that addresses the challenges and gaps identified through the needs assessment and segmentation analysis.

(4) Work with public and private agencies, organizations (including philanthropic organizations), and individuals to gather and leverage resources needed to support the financial sustainability of the plan. Planning grantees must demonstrate this financial sustainability by identifying the sources and amounts of current Federal, State, and local funds, including public and private funds, that can be used for the project.

(5) Identify strategies for building upon and leveraging high-quality academic programs and family and community supports; existing and anticipated Federal resources, including the American Recovery and Reinvestment Act of 2009 (ARRA); and existing and anticipated investments in neighborhood revitalization efforts and similar place-based initiatives funded by other Federal agencies such as the U.S. Departments of Housing and Urban Development, Health and Human Services, and Justice. Efforts funded by other Federal agencies include programs such as HOPE VI and Choice Neighborhoods, Health Centers, and the Byrne Criminal Justice Innovation and Weed and Seed Programs.

Note: The Departments of Health and Human Services, Housing and Urban Development, and Justice, along with the Department of Education, may establish incentives in future competitions for communities intending to implement more than one of these place-based initiatives.

(6) Build community support for and involvement in the development of the plan, which includes establishing outcomes for children in the neighborhood that are communicated and analyzed on an ongoing basis by leaders and members of the community.

(7) Obtain commitments from partners to work long-term to implement the plan, help ensure continued programmatic success of their plan, and develop a strategy to hold partners accountable for meeting performance goals and milestones.

(8) Plan, build, adapt, or expand a comprehensive, longitudinal data management system, while abiding by Federal, State, and other privacy laws and requirements, for all academic and family and community support indicators, as described in this notice, as well as for additional indicators needed for the Promise Neighborhoods evaluation, such as demographic characteristics.

(9) Work with a national evaluator for Promise Neighborhoods. Planning grantees must cooperate with the national evaluator to ensure their project design and data collection plan allows for a rigorous evaluation, using standard methodologies across Promise Neighborhoods sites, of the overall impact of the Promise Neighborhoods Program and the relationship between particular solutions pursued by the grantee and student outcomes.

(10) Participate in a community of practice (as described in this notice).

The Department will monitor the grantees' progress toward completion of these activities. During the planning year, grantees must be able to demonstrate performance, or show significant progress toward completion, of activities (1)-(10), including by responding to the Department's questions and concerns regarding progress.

In subsequent years, contingent on the availability of funds, the Department intends to conduct competitions for Promise Neighborhoods implementation grants, as well as competitions for new Promise Neighborhoods planning grants. While all eligible entities will be able to apply for implementation grants, eligible entities that have effectively carried out the planning activities described in this notice, whether independently or with a Promise Neighborhoods planning grant, are likely to be well positioned with the plan, commitments, data, and organizational leadership and capacity necessary to develop a quality application for an implementation grant.

Applicants will be at different points of readiness, in terms of developing a plan, when they apply for a planning grant. For that reason, we are requiring applicants to demonstrate throughout the application their: (a) Current organizational capacity to plan for and implement a Promise Neighborhood, including the expertise of their management team and partners; (b) prior experience in carrying out neighborhood revitalization or school improvement initiatives, placing emphasis on the applicant's performance and on the impact of its work; and (c) ability to ensure ongoing sustainability of Promise Neighborhood activities.

Because a diverse group of communities could benefit from Promise Neighborhoods, the Secretary establishes an absolute priority for applications that propose to serve one or more rural communities only (as defined in this notice) and an absolute priority for applications that propose to serve one or more Indian Tribes (as defined in this notice). Child poverty rates in rural areas are higher than in urban areas ⁶ and more than one fifth of the Nation's 2,000 “dropout factories,” in which the graduation rate is less than 60 percent, are located in rural areas.⁷ Our focus on rural communities is consistent with the Senate Appropriations Committee report on the FY 2010 Department of Education, Appropriations Act—S. REP. No. 111-66 at 192 (August 4, 2009). Compared to White students, American Indian students have lower academic outcomes and higher poverty rates.⁸ Moreover, American Indian and Alaska Native students have a graduation rate of less than 50 percent nationally.⁹

⁶ American Community Survey, 2006.

⁷ Balfanz, Robert, Letgers, N. Locating the Dropout Crisis: Which High Schools Produce the Nation's Dropouts? Johns Hopkins University, 2004.

⁸ Institute for Education Sciences. Status and Trends in the Education of American Indians and Alaska Natives, 2008.

⁹ The Civil Rights Project. The Dropout/Graduation Crisis Among American Indian and Alaska Native Students: Failure to Respond Places the Future of Native Peoples at Risk, 2010.

The Secretary also recognizes that a broad set of solutions is required to improve academic and developmental outcomes for children and to transform communities. In that regard, the Secretary establishes an invitational priority to signal our interest in applicants addressing the unique needs of students with disabilities and students with limited English proficiency, and solutions related to increasing internet connectivity, improving civic engagement, and accessing the arts and humanities.

Priorities: We are establishing these priorities for the FY 2010 grant competition only, in accordance with section 437(d)(1) of the General Education Provisions Act (GEPA), 20 U.S.C. 1232(d)(1).

Absolute Priorities: These priorities are absolute priorities. Under 34 CFR 75.105(c)(3) we consider only applications that meet either Absolute Priority 1, Absolute Priority 2, or Absolute Priority 3.

Note: Applicants must indicate in their application whether they are applying under Absolute Priority 1, Absolute Priority 2, or Absolute Priority 3. An applicant that applies under Absolute Priority 2, but is not eligible for funding under Absolute Priority 2, or applies under Absolute Priority 3, but is not eligible for funding under Absolute Priority 3, may be considered for funding under Absolute Priority 1.

These priorities are:

Absolute Priority 1: Proposal To Develop a Promise Neighborhood Plan

To meet this priority, an applicant must submit a proposal for how it will plan to create a Promise Neighborhood. This proposal must—

1. Describe the geographically defined area to be served and the level of distress in that area based on indicators of need and other relevant indicators. Applicants may propose to serve multiple, non-contiguous geographically defined areas. In cases where target areas are not contiguous, the applicant must explain its rationale for including non-contiguous areas;

2. Describe how the applicant will plan to build a continuum of solutions (as defined in this notice) designed to significantly improve educational outcomes and to support the healthy development and well-being of children in the neighborhood. The plan to be developed by the applicant must ensure that children in the target school or schools described in paragraph 2(a)(i), 2(a)(ii), or 2(a)(iii) have access to a complete continuum of solutions. The applicant must explain how it will use its needs assessment and segmentation analysis to determine the children with the highest needs and ensure that they receive the appropriate services from the continuum of solutions. Each applicant will propose solutions, such as programs, policies, practices, services, systems, and supports that will result in improvements on the project indicators, as defined in this notice and described in paragraph 10 of this priority. There may be more than one solution for each project indicator, and a single solution may contribute to improvement on more than one project indicator. Applicants are not required to propose solutions for program indicators (as defined in this notice) that are not also project indicators (see paragraph 10 of this priority for an explanation of the difference between project indicators and program indicators).

Although the continuum of solutions must be designed to significantly improve outcomes for children in the neighborhood, applicants may also propose to plan for solutions for adults in the neighborhood that support student learning, such as family literacy programs. If an applicant proposes solutions for adults, the application must include an explanation of how the services for adults directly align with improved academic and family and community support outcomes for children.

The core component of the applicant's proposed continuum of solutions must be a strategy, or a plan to develop a strategy, to—

(a)(i) Significantly improve one or more persistently lowest-achieving schools (as defined in this notice) in the neighborhood by implementing one of the four school intervention models (turnaround model, restart model, school closure, or transformation model) described in Appendix C of the Race to the Top Notice Inviting Applications for New Awards for FY 2010, 74 FR 59836, 59866 (November 18, 2009);

(ii) Significantly improve one or more low-performing schools in the neighborhood that is not also a persistently lowest-achieving school, by implementing ambitious, rigorous, and comprehensive interventions to assist, augment, or replace schools, which may include implementing one of the four school intervention models (turnaround model, restart model, school closure, or transformation model) described in Appendix C of the Race to the Top Notice Inviting Applications for New Awards for FY 2010, 74 FR 59836, 59866 (November 18, 2009), or may include another model of sufficient ambition, rigor, and comprehensiveness to significantly improve academic and other outcomes for students, with elements that include addressing the effectiveness of teachers and leaders and the school's use of time and resources, including increased learning time (as defined in the notice); or

(iii) Support and sustain one or more effective schools (as defined in this notice) in the neighborhood by providing academic programs in a manner that significantly enhances and expands current efforts to improve the academic outcomes of the children in the neighborhood.

Note regarding school reform strategies:

So as not to penalize an applicant from working with an LEA that has implemented rigorous reform strategies prior to the publication of this notice, an applicant is not required to propose a new reform strategy in place of an existing reform strategy in order to be eligible for a Promise Neighborhoods planning grant. For example, an LEA might have begun to implement improvement activities that meet many, but not all, of the elements of a transformation model of school intervention.

In this case, the applicant could propose, as part of its Promise Neighborhood, to work with the LEA as the LEA continues with its reforms;

(b) Ensure, as appropriate, that children in the neighborhood who do not attend the school or schools described in paragraph 2(a)(i), 2(a)(ii), or 2(a)(iii) have access to solutions designed to significantly improve educational and developmental outcomes. Examples of these solutions are—

(i) High-quality early learning programs designed to improve outcomes in multiple domains of early learning for young children;

(ii) After-school and other programs that provide increased learning time (as defined in the notice);

(iii) Supports to address barriers to student achievement, such as family and community supports;

(iv) For children in kindergarten through the 12th grade, instructional programs based on the best available evidence including, where available, strong or moderate evidence that the programs improve educational outcomes;

(v) Multiple pathways for students to earn regular high school diplomas (e.g., using schools that serve the needs of over-aged, under-credited, or other students with an exceptional need for flexibility regarding when they attend school or the additional supports they require; awarding credit based on demonstrated evidence of student competency; or offering dual-enrollment options); or

(vi) Other solutions based on the best available evidence including, where available, strong or moderate evidence that the solutions improve educational and developmental outcomes.

(c) To the extent feasible and appropriate, the plan to be developed by the applicant must leverage and integrate existing high-quality programs in the neighborhood into the continuum of solutions. An applicant must identify in its application the school or schools described in paragraph 2(a)(i), 2(a)(ii), or 2(a)(iii) of this priority. In cases where an eligible applicant operates a school or partners with a school that does not serve all students in the neighborhood, the applicant must partner with at least one additional school or schools that serves students in the neighborhood. In cases where an eligible applicant is a nonprofit organization that manages, operates, or partners with a private school in the neighborhood, and the school does not serve all students in the neighborhood, the applicant must partner with at least one additional public school or schools that serve students in the neighborhood.

(d) As part of the description of how the applicant will plan to build a continuum of solutions, an applicant must—

(i) Propose solutions based on the best available evidence including, where available, strong or moderate evidence that the applicant will plan to implement in the geographic area proposed to be served;

(ii) Describe the evidence supporting each proposed solution; and

(iii) Propose one or more partners that will participate in the implementation of each solution (in any case in which the applicant does not implement the solution directly);

3. Describe the applicant's organizational capacity to plan and implement a Promise Neighborhood, including the applicant's experience and lessons learned, in all of the following areas:

(a) Working with the school or schools described in paragraph 2 of this priority; the LEA in which those schools are located; Federal, State, and local government leaders; and other service providers.

(b) Serving the neighborhood and its residents. The application must include a description of the applicant's and partners' historical commitment and service to the neighborhood.

(c) Collecting, analyzing, and using data for decision-making and ongoing improvement.

(d) Creating formal and informal relationships, and generating community support to achieve results.

(e) Securing and integrating funding streams from multiple public and private sources.

(f) Implementing efforts similar or related to the proposed Promise Neighborhood. In the case of a newly created eligible entity, the applicant must describe the prior performance of its management team in developing and managing projects or programs similar to the proposed Promise Neighborhood;

4. Describe how the applicant will plan to sustain and “scale up” the proposed Promise Neighborhood across the broader region beyond the initial neighborhood over time. This must include a description of how the applicant will estimate during the planning phase the start-up and operating costs per child, including indirect and administrative costs, for each solution proposed in its application, and how the applicant will measure these costs during the implementation phase;

5. Describe the commitment the applicant anticipates receiving from partners by—

(a) Providing a preliminary memorandum of understanding, signed by each organization or agency with which it would partner in planning and implementing the proposed Promise Neighborhood. The preliminary memorandum of understanding must describe—

(i) Each partner's financial and programmatic commitment;

(ii) How each partner's existing vision, theory of change (as defined in this notice), theory of action (as defined in this notice), and existing activities align with those of the proposed Promise Neighborhood; and

(iii) The governance structure of the proposed Promise Neighborhood, including how the eligible entity's governing board or advisory board is representative of the geographic area proposed to be served (as defined in this notice), and how residents of the geographic area would have an active role in the organization's decision-making; and

(b) Explaining how the applicant will plan to secure a commitment from local, State, and Federal government leaders to develop an infrastructure of policies, practices, systems, and resources that supports the continuum of solutions in the proposed Promise Neighborhood and “scales up” those elements of the continuum that are proven effective;

6. Describe how the applicant will plan to track available sources and funding levels of Federal, State, and local funds that could be utilized in the project;

7. Describe how the applicant will plan to identify Federal, State, or local policies, regulations, or other requirements that would impede the applicant in achieving its goals and report those impediments to the Department and other relevant agencies;

8. Describe how the applicant will plan to use data to manage program implementation, inform decision-making, engage stakeholders, and measure success. The applicant must describe—

(a) Its proposal to plan, build, adapt, or expand a longitudinal data system that measures academic and family and community support indicators for all children in the neighborhood, disaggregated by the subgroups listed in section 1111(b)(3)(C)(xiii) of the ESEA;

(b) How the applicant will link the longitudinal data system to school-based, LEA, and State data systems; make the data accessible to program partners, researchers, and evaluators while abiding by Federal, State, and other privacy laws and requirements; and manage and maintain the system;

(c) How the applicant will use rapid-time (as defined in this notice) data both in the planning year and, once the Promise Neighborhood is implemented, for continuous program improvement; and

(d) How the applicant will document the planning process, including by describing lessons learned and best practices;

9. Describe the applicant's commitment to work with the Department and with a national evaluator for Promise Neighborhoods to ensure that data collection and program design are consistent with plans to conduct a rigorous national evaluation of the Promise Neighborhoods Program during the implementation phase and of specific solutions and strategies pursued by individual grantees. This commitment must include, but need not be limited to—

(a) Ensuring that the national evaluator has access to relevant program and project data sources (e.g., administrative data and program and project indicator data) through memoranda of understanding with appropriate entities;

(b) Developing, in consultation with the national evaluator, an evaluation strategy, including identifying a credible comparison group; and

(c) Developing, in consultation with the national evaluator, a plan for identifying and collecting reliable and valid baseline data for both program participants and a designated comparison group of non-participants;

10. Identify and describe the academic and family and community support indicators that the applicant will use in conducting the needs assessment during the planning year. Applicants must—

(a) Collect data for the academic indicators listed in Table 1 and use them as both program and project indicators;

(b) Collect data for the family and community support indicators in Table 2 and use them as program indicators; and

(c) Collect data for unique family and community support indicators, developed by the applicant, that align with the goals and objectives of projects and use them as project indicators or use the indicators in Table 2 as project indicators.

Table 1—Academic Indicators and Results They Are Intended To Measure
Indicator | Result
—# and % of children birth to five years old who have a place where they usually go, other than an emergency room, when they are sick or in need of advice about their health. | Children enter kindergarten ready to learn.
—# and % of three-year-olds and children in kindergarten who demonstrate at the beginning of the program or school year age-appropriate functioning across multiple domains of early learning (as defined in this notice) as determined using developmentally-appropriate early learning measures (as defined in this notice).
—# & % of children, from birth to kindergarten entry, participating in center-based or formal home-based early learning settings or programs, which may include Early Head Start, Head Start, child care, or publicly funded preschool.
—# & % of students at or above grade level according to State mathematics and English language arts assessments in at least the grades required by the ESEA (3rd through 8th and once in high school) | Students are proficient in core academic subjects.
—Attendance rate of students in 6th, 7th, 8th, and 9th grade | Students successfully transition from middle grades to high school.
—Graduation rate (as defined in this notice) | Youth graduate from high school.
—# & % of Promise Neighborhood students who graduate with a regular high school diploma, as defined in 34 CFR 200.19(b)(1)(iv), and obtain postsecondary degrees, vocational certificates, or other industry-recognized certifications or credentials without the need for remediation | High school graduates obtain a postsecondary degree, certification, or credential.

Table 2—Family and Community Support Indicators and Results They Are Intended to Measure
Indicator | Result
—# & % of children who participate in at least 60 minutes of moderate to vigorous physical activity daily and consume five or more servings of fruits and vegetables daily; or | Students are healthy.
—possible second indicator, to be determined (TBD) by applicant.
—# & % of students who feel safe at school and traveling to and from school, as measured by a school climate survey (as defined in this notice); or | Students feel safe at school and in their community.
—possible second indicator, TBD by applicant.
—Student mobility rate (as defined in this notice); or | Students live in stable communities.
—possible second indicator, TBD by applicant.
—# & % of students who say they have a caring adult in their home, school, and community or # & % of family members who attend parent-teacher conferences; or | Families and community members support learning in Promise Neighborhood schools.
—possible second indicator TBD by applicant
—# & % of students who have school and home access (and % of the day they have access) to broadband internet (as defined in this notice) and a connected computing device; or | Students have access to 21st century learning tools.
—possible second indicator TBD by applicant.

Note: The indicators in Tables 1 and 2 are not intended to limit an applicant from collecting and using data for additional indicators. Examples of additional indicators are—

(i) The # and % of children who participate in high-quality learning activities during out-of-school hours;

(ii) The # and % of suspensions or discipline referrals during the year;

(iii) The share of housing stock in the geographically defined area that is rent-protected, publicly assisted, or targeted for redevelopment with local, State, or Federal funds;

(iv) The # and % of children who are homeless or in foster care and who have an assigned adult advocate; and

(v) The # and % of young children who are read to frequently by family members.

While the Department believes there are many programmatic benefits of collecting data on every child in the proposed neighborhood, if the applicant chooses to collect data on only a sample of the children in the neighborhood for some indicators, the applicant must describe in its application how a sample would be drawn that is representative of children in the neighborhood.

Absolute Priority 2: Promise Neighborhoods in Rural Communities

The Secretary establishes a priority for applicants proposing to develop plans for implementing a Promise Neighborhood that (1) meet all the requirements in Absolute Priority 1; and (2) serve one or more rural communities only.

Absolute Priority 3: Promise Neighborhoods in Tribal Communities

The Secretary establishes a priority for applications that (1) Meet all requirements in Absolute Priority 1; (2) serve one or more Indian tribes; and (3) are submitted by either an eligible entity that partners with an Indian Tribe (as defined in this notice), or by an Indian Tribe that meets the definition of an eligible entity.

Invitational Priority: Under this competition we are particularly interested in applications that address the following priority. For FY 2010, this priority is an invitational priority. Under 34 CFR 75.105(c)(1) we do not give an application that meets this invitational priority a competitive or absolute preference over other applications.

This priority is:

Invitational Priority: Unique Learning Needs, Quality Internet Connectivity, Civic Engagement, or Arts and Humanities

The Secretary establishes a priority for applicants proposing to develop plans that include one or more practices, strategies, or programs designed to—

1. Address the unique learning needs of students with disabilities or students with limited English proficiency. This may include activities designed to improve academic outcomes; close achievement gaps identified in section 1111(b)(3)(C)(xiii) of the ESEA between students with disabilities as compared to nondisabled students, and between students with limited English proficiency and their English proficient peers; and increase college- and career-readiness, including increasing high school graduation rates for students with disabilities or students with limited English proficiency;

2. Ensure that almost all students in the geographic area proposed to be served have broadband internet access (as defined in this notice) at home and at school, a connected computing device, and the knowledge and skills to use broadband internet access effectively and a connected computing device to support schoolwork;

3. Include meaningful civic engagement opportunities in the geographic area proposed to be served. Examples of these opportunities are efforts to increase the participation of residents, including children and youth, in decisions that affect their community and may improve school performance; efforts to use the perspectives of residents in shaping and evaluating programs; and positive youth development activities such as service-learning (as defined in 42 U.S.C. 12511) programs for students and families that address specific challenges in the neighborhood; or

4. Include opportunities for children and youth to experience and participate actively in the arts and humanities in their community so as to broaden, enrich, and enliven the educational, cultural, and civic experiences available in the neighborhood. Applicants may propose to develop plans for offering these activities in school and out-of-school settings and at any time during the calendar year.

Definitions: We are establishing these definitions for the FY 2010 grant competition only in accordance with section 437(d)(1) of GEPA, 20 U.S.C. 1232(d)(1).

Academic programs means programs that include, but are not limited to—

(a) High-quality early learning programs designed to improve outcomes in multiple domains of early learning for young children. Such programs must be specifically intended to align standards, practices, strategies, or activities across as broad an age range as birth through third grade so as to ensure that young children enter kindergarten and the early elementary school grades demonstrating age-appropriate functioning across the multiple domains;

(b) For children in kindergarten through the 12th grade, programs, policies, and personnel that are linked to improved academic outcomes. The programs, policies, and personnel—

(i) Must include effective teachers and effective principals;

(ii) Must include strategies, practices, or programs that encourage and facilitate the evaluation, analysis, and use of student achievement, student growth, and other data by educators, families, and other stakeholders to inform decision-making;

(iii) Must include college and career-ready standards, assessments, and practices, including a well-rounded curriculum, instructional practices, strategies, or programs in, at a minimum, core academic subjects as defined in section 9101(11) of the ESEA, that are aligned with high academic content and achievement standards and with high-quality assessments based on those standards; and

(iv) May include creating multiple pathways for students to earn regular high school diplomas (e.g., using schools that serve the needs of over-aged, under-credited, or other students with an exceptional need for flexibility regarding when they attend school or the additional supports they require; awarding credit based on demonstrated evidence of student competency; or offering dual-enrollment options).

(c) Programs that prepare students for college and career success, which may include programs that—

(i) Create and support partnerships with community colleges, four-year colleges, or universities and that help instill a college-going culture in the neighborhood;

(ii) Provide dual-enrollment opportunities for secondary students to gain college credit while in high school;

(iii) Provide, through relationships with businesses and other organizations, apprenticeship opportunities to students;

(iv) Align curricula in the core academic subjects with requirements for industry-recognized certifications or credentials, particularly in high-growth sectors; and

(v) Provide access to career and technical education programs so that individuals can attain the skills and industry-recognized certifications or credentials for success in their careers.

Broadband internet access means internet access sufficient to provide community members with the internet available when and where they need it and for the uses they require.

College-going culture means a local culture that includes an expectation that all students in the geographic area proposed to be served will have the academic preparation, financial resources, and other supports necessary to go to college or pursue other postsecondary training. That expectation is apparent in the attitudes, experiences, practices, beliefs, and values of individuals in the neighborhood.

Continuum of cradle-through-college-to-career solutions or continuum of solutions means solutions that—

(a) Include programs, policies, practices, services, systems, and supports that result in improving educational and developmental outcomes for children from cradle through college to career;

(b) Are based on the best available evidence, including, where available, strong or moderate evidence;

(c) Are linked and integrated seamlessly (as defined in this notice); and

(d) Include both academic programs and family and community supports.

Developmentally appropriate early learning measures means a range of assessment instruments that are used in ways consistent with the purposes for which they were designed and validated; appropriate for the ages and other characteristics of the children being assessed; designed and validated for use with children whose ages, cultures, languages spoken at home, socioeconomic status, abilities and disabilities, and other characteristics are similar to those of the children with whom the assessments will be used; and used in compliance with the measurement standards set forth by the American Educational Research Association (AERA), the American Psychological Association (APA), and the National Council for Measurement in Education (NCME) in the 1999 Standards for Educational and Psychological Testing.

Effective school means a school that has—

(a) Significantly closed the achievement gaps between subgroups of students (as identified in section 1111(b)(3)(C)(xiii) of the ESEA) within the school or district; or

(b)(i) Demonstrated success in significantly increasing student academic achievement in the school for all subgroups of students (as identified in section 1111(b)(3)(C)(xiii) of the ESEA) in the school; and

(ii) Made significant improvements in other areas, such as graduation rates (as defined in this notice) or recruitment and placement of effective teachers and effective principals.

Eligible entity means an entity that—

(a) Is representative of the geographic area proposed to be served (as defined in this notice);

(b) Is one of the following:

(i) A nonprofit organization that meets the definition of a nonprofit under 34 CFR 77.1(c), which may include a faith-based nonprofit organization; or

(ii) An institution of higher education as defined by section 101(a) of the Higher Education Act of 1965, as amended; and

(c) Currently provides at least one of the solutions from the applicant's proposed continuum of solutions in the geographic area proposed to be served.

Note: An eligible entity proposing to plan to “scale up” existing activities beyond the geographic area that the eligible entity is currently serving must partner with at least one organization or entity that provides at least one of the solutions from the applicant's proposed continuum of solutions in the geographic area proposed to be served.

Family and community supports means—

(a) Student health programs, such as mental health and physical health programs (e.g., home visiting programs; Early Head Start; programs to improve nutrition and fitness, reduce childhood obesity, and create healthier communities);

(b) Safety programs, such as programs in school and out of school to prevent, control, and reduce crime, violence, drug and alcohol use, and gang activity; programs that address classroom and school-wide behavior and conduct, such as Positive Behavioral Interventions and Supports; programs to prevent child abuse and neglect; programs to prevent truancy and reduce and prevent bullying and harassment; and programs to improve the physical and emotional security of the school setting as perceived, experienced, and created by students, staff, and families;

(c) Community stability programs, such as programs that—

(i) Increase the stability of families in communities by expanding access to quality, affordable housing, providing legal support to help families secure clear legal title to their homes, and providing housing counseling or housing placement services;

(ii) Provide employment opportunities and training to improve job skills and readiness in order to decrease unemployment, with a goal of increasing family stability;

(iii) Improve families' awareness of, access to, and use of a range of social services, if possible at a single location;

(iv) Provide unbiased, outcome-focused, and comprehensive financial education, inside and outside the classroom and at every life stage;

(v) Increase access to traditional financial institutions (e.g., banks and credit unions) rather than alternative financial institutions (e.g., check cashers and payday lenders);

(vi) Help families increase their financial assets and savings; and

(vii) Help families access transportation to education and employment opportunities;

(d) Family and community engagement programs, such as family literacy programs and programs that provide training and opportunities for family members and other members of the community to support student learning and establish high expectations for academic achievement; mentorship programs that create positive relationships between children and adults; and programs that provide for the use of such community resources as libraries, museums, and local businesses to support improved student academic outcomes; and

(e) 21st century learning tools, such as technology (e.g., computers and mobile phones) used by students in the classroom and in the community to support their education. This includes programs that help students use the tools to develop knowledge and skills in such areas as reading and writing, mathematics, research, critical thinking, communication, creativity, innovation, and entrepreneurship.

Graduation rate means the four-year or extended-year adjusted cohort graduation rate as defined by 34 CFR 200.19(b)(1).

Note: This definition is not meant to prevent a grantee from also collecting information about the reasons why students do not graduate from the target high school, e.g., dropping out or moving outside of the school district for non-academic or academic reasons.

Increased learning time means using a longer school day, week, or year to significantly increase the total number of school hours. It is used to redesign the school's program in a manner that includes additional time for (a) Instruction in core academic subjects as defined in section 9101 of the ESEA; (b) instruction in other subjects and enrichment activities that contribute to a well-rounded education, including, for example, physical education, service learning, and experiential and work-based learning opportunities that are provided by partnering, as appropriate, with other organizations; and (c) teachers to collaborate, plan, and engage in professional development within and across grades and subjects.

Indian Tribe means any Indian or Alaska Native tribe, band, nation, pueblo, village or community that the Secretary of the Interior acknowledges to exist as an Indian tribe, 25 U.S.C. 479a and 479a-1.

Indicators of need means currently available data that describe—

(a) Academic need, which means—

(i) All or a portion of the neighborhood includes or is within the attendance zone of a low-performing school that is a high school, especially one in which the graduation rate (as defined in this notice) is less than 60 percent or a school that can be characterized as low-performing based on another proxy indicator, such as students' on-time progression from grade to grade; and

(ii) Other indicators, such as significant achievement gaps between subgroups of students (as identified in section 1111(b)(3)(C)(xiii) of the ESEA) within a school or LEA, high teacher and principal turnover, or high student absenteeism; and

(b) Family and community support need, which means—

(i) Percentages of children with preventable chronic health conditions (e.g., asthma, poor nutrition, dental problems, obesity) or avoidable developmental delays;

(ii) Immunization rates;

(iii) Rates of crime, including violent crime;

(iv) Student mobility rates;

(v) Teenage birth rates;

(vi) Percentage of children in single-parent or no-parent families;

(vii) Rates of vacant or substandard homes, including distressed public and assisted housing; or

(viii) Percentage of the residents living at or below the Federal poverty threshold.

Linked and integrated seamlessly, with respect to the continuum of solutions, means solutions that have common outcomes, focus on similar milestones, support transitional time periods (e.g., the beginning of kindergarten, the middle grades, or graduation from high school) along the cradle-through-college-to-career continuum, and address time and resource gaps that create obstacles for students in making academic progress.

Low-performing schools means schools receiving assistance through Title I that are in corrective action or restructuring in the State, as determined under section 1116 of the ESEA, and the secondary schools (both middle and high schools) in the State that are equally as low-achieving as these Title I schools and are eligible for, but do not receive, Title I funds.

Moderate evidence means evidence from previous studies with designs that can support causal conclusions (i.e., studies with high internal validity) but have limited generalizability (i.e., moderate external validity) or from studies with high external validity but moderate internal validity.

Multiple domains of early learning means physical well-being and motor development; social and emotional development; approaches to learning, which refers to the inclinations, dispositions, or styles, rather than skills, that reflect ways that children become involved in learning and develop their inclinations to pursue learning; language development, including emergent literacy; and cognition and general knowledge, which refers to thinking and problem-solving as well as knowledge about particular objects and the way the world works. Cognition and general knowledge include mathematical and scientific knowledge, abstract thought, and imagination.

Neighborhood assets means—

(a) Developmental assets that allow residents to attain the skills needed to be successful in all aspects of daily life (e.g., educational institutions, early learning centers, and health resources);

(b) Commercial assets that are associated with production, employment, transactions, and sales (e.g., labor force and retail establishments);

(c) Recreational assets that create value in a neighborhood beyond work and education (e.g., parks, open space, community gardens, and arts organizations);

(d) Physical assets that are associated with the built environment and physical infrastructure (e.g., housing, commercial buildings, and roads); and

(e) Social assets that establish well-functioning social interactions (e.g., public safety and community engagement).

Persistently lowest-achieving school means, as determined by the State—

(a) Any school receiving assistance through Title I that is in improvement, corrective action, or restructuring and that—

(i) Is among the lowest-achieving five percent of Title I schools in improvement, corrective action, or restructuring or the lowest-achieving five Title I schools in improvement, corrective action, or restructuring in the State, whichever number of schools is greater; or

(ii) Is a high school that has had a graduation rate that is less than 60 percent over a number of years; and

(b) Any secondary school that is eligible for, but does not receive, Title I funds that—

(i) Is among the lowest-achieving five percent of secondary schools or the lowest-achieving five secondary schools in the State that are eligible for, but do not receive, Title I funds, whichever number of schools is greater; or

(ii) Is a high school that has had a graduation rate that is less than 60 percent over a number of years.

Program indicators are indicators that the Department will use only for research and evaluation purposes and for which an applicant is not required to propose solutions.

Project indicators are indicators for which an applicant proposes solutions intended to result in progress on the indicators.

Public officials means elected officials (e.g., council members, aldermen and women, commissioners, State legislators, Congressional representatives, members of the school board), appointed public officials (e.g., members of a planning or zoning commission, or of any other regulatory or advisory board or commission), or individuals who are not necessarily public officials, but who have been appointed by a public official to serve on the Promise Neighborhoods governing board or advisory board.

Rapid-time, in reference to reporting and availability of locally-collected data, means that data are available quickly enough to inform current lessons, instruction, and related academic programs and family and community supports.

Representative of the geographic area proposed to be served means that residents of the geographic area proposed to be served have an active role in decision-making and that at least one-third of the eligible entity's governing board or advisory board is made up of—

(a) Residents who live in the geographic area proposed to be served;

(b) Residents of the city or county in which the neighborhood is located but who live outside the geographic area proposed to be served, and who are low-income (which means earning less than 80 percent of the area's median income as published by the Department of Housing and Urban Development);

(c) Public officials (as defined in this notice) who serve the geographic area proposed to be served (although not more than one-half of the governing board or advisory board may be made up of public officials); or

(d) Some combination of individuals from the three groups listed in paragraphs (a), (b), and (c) of this definition.

Rural community means a community that is served by an LEA that is currently eligible under the Small Rural School Achievement (SRSA) program or the Rural and Low-Income School (RLIS) program authorized under Title VI, Part B of the ESEA. Applicants may determine whether a particular LEA is eligible for these programs by referring to information on the following Department Web sites. For the SRSA program: http://www.ed.gov/programs/reapsrsa/eligible09/index.html.

For the RLIS program: http://www.ed.gov/programs/reaprlisp/eligible09/index.html.

School climate survey means an evaluation tool that measures the extent to which the school setting promotes or inhibits academic performance by collecting perception data from individuals, which could include students, staff, or families.

Segmentation analysis means the process of grouping and analyzing data from children and families in the geographic area proposed to be served according to indicators of need (as defined in this notice) or other relevant indicators.

Note: The analysis is intended to allow grantees to differentiate and more effectively target interventions based on what they learn about the needs of different populations in the geographic area.

Strong evidence means evidence from studies with designs that can support causal conclusions (i.e., studies with high internal validity), and studies that, in total, include enough of the range of participants and settings to support scaling up to the State, regional, or national level (i.e., studies with high external validity).

Student achievement means—

(a) For tested grades and subjects:

(i) A student's score on the State's assessments under the ESEA; and, as appropriate,

(ii) Other measures of student learning, such as those described in paragraph (b) of this definition, provided they are rigorous and comparable across classrooms.

(b) For non-tested grades and subjects: Alternative measures of student learning and performance, such as student scores on pre-tests and end-of-course tests; student performance on English language proficiency assessments; and other measures of student achievement that are rigorous and comparable across classrooms.

Student growth means the change in achievement data for an individual student between two or more points in time. Growth may also include other measures that are rigorous and comparable across classrooms.

Student mobility rate is calculated by dividing the total number of new student entries and withdrawals at a school, from the day after the first official enrollment number is collected through the end of the academic year, by the first official enrollment number of the academic year.

Note: This definition is not meant to limit a grantee from also collecting information about why students enter or withdraw from the school, e.g., transferring to charter schools, moving outside of the school district for non-academic or academic reasons.

Theory of action means an organization's strategy regarding how, considering its capacity and resources, it will take the necessary steps and measures to accomplish its desired results.

Theory of change means an organization's beliefs about how its inputs, and early and intermediate outcomes, relate to accomplishing its long-term desired results.

Waiver of Proposed Rulemaking: Under the Administrative Procedure Act (5 U.S.C. 553), the Department generally offers interested parties the opportunity to comment on proposed priorities, definitions, requirements, and selection criteria. Section 437(d)(1) of GEPA, however, allows the Secretary to exempt from rulemaking requirements and regulations governing the first grant competition under a new or substantially revised program authority. This is the first grant competition for Promise Neighborhoods planning grants and, therefore, qualifies for this exemption. In order to ensure timely grant awards, the Secretary has decided to forgo public comment on the priorities, definitions, requirements, and selection criteria under section 437(d)(1) of GEPA. These priorities, definitions, requirements, and selection criteria will apply to the FY 2010 grant competition only.

Program Authority: 20 U.S.C. 7243-7243b.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in part 86 apply to institutions of higher education only.

II. Award Information

Type of Award: Discretionary grants.

Estimated Available Funds: $10,000,000.

Estimated Range of Awards: $400,000-$500,000.

Estimated Average Size of Awards: $450,000.

Maximum Award: $500,000. The Department does not intend to award any grant with a budget exceeding $500,000.

Estimated Number of Awards: 20.

Note: The Department is not bound by any estimates in this notice.

Project Period: Up to 12 months.

III. Eligibility Information

1. Eligible Applicants: An eligible applicant is an eligible entity (as defined in this notice) that operates a school or partners, in coordination with the school's LEA, with at least one school in the geographic area proposed to be served in which there are multiple signs of distress based on indicators of need and other relevant indicators.

For purposes of Absolute Priority 3, an eligible applicant is an eligible entity that partners with an Indian Tribe, or is an Indian Tribe that meets the definition of an eligible entity. To be eligible under Absolute Priority 3, an applicant must also operate a school or partner, in coordination with the school's LEA, with at least one school in the geographic area proposed to be served. All eligible applicants may also partner with such entities as an LEA; Federal, State, and local government leaders; and providers of family and community supports. Partnering with such entities is strongly encouraged but is not required.

2. Cost-Sharing or Matching: To be eligible for an award, an applicant must demonstrate that it has established a commitment from one or more entities in the public or private sector, which may include philanthropic organizations, to provide financial assistance, and that the entities will provide matching funds for the planning process. An applicant must obtain matching funds, excluding other Federal funds, or in-kind donations for the planning process equal to at least 50 percent of its grant award, except that an applicant proposing a project that meets Absolute Priority 2: Promise Neighborhoods in Rural Communities or Absolute Priority 3: Promise Neighborhoods in Tribal Communities must obtain matching funds or in-kind donations equal to at least 25 percent of the grant award. Each applicant must demonstrate a commitment of matching funds in its application. In addition, the applicant must specify the source of the cost or contribution and in the case of a third-party in-kind contribution, a description of how the value was determined for the donated or contributed goods or service. Applicants must demonstrate the match commitment by including letters in their applications explaining the type and quantity of the match commitment, including original signatures from the executives of organizations or agencies providing the match. The Secretary may consider decreasing the matching requirement in the most exceptional circumstances, on a case-by-case basis. An applicant that is unable to meet the matching requirement must include in its application a request to the Secretary to reduce the matching level requirement, including the amount of the requested reduction and a statement of the basis for the request. An applicant should review the Department's cost-sharing and cost-matching regulations, which include specific limitations in 34 CFR 74.23 applicable to non-profit organizations and institutions of higher education and 34 CFR 80.24 applicable to State, local, and Indian tribal governments, and the Office of Management and Budget (OMB) cost principles for entity types regarding donations, capital assets, depreciations and allowable costs. These circulars are available on OMB's Web site at http://www.whitehouse.gov/omb/circulars/index.html.

IV. Application and Submission Information

1. Address to Request Application Package: Larkin Tackett, U.S. Department of Education, 400 Maryland Avenue, SW., Room 4W338, LBJ, Washington, DC 20202-5970. Telephone: (202) 453-6615 or by e-mail: promiseneighborhoods@ed.gov.

If you use a telecommunications device for the deaf (TDD), call the Federal Relay Service (FRS), toll free, at 1-800-877-8339.

Individuals with disabilities can obtain a copy of the application package in an accessible format (e.g., Braille, large print, audiotape, or computer diskette) by contacting the program contact person listed in this section.

2. Content and Form of Application Submission: Requirements concerning the content of an application, together with the forms you must submit, are in the application package for this competition.

Notice of Intent to Apply: The Department will be able to develop a more efficient process for reviewing grant applications if it has a better understanding of the number of entities that intend to apply for funding under this competition. Therefore, the Secretary strongly encourages each potential applicant to notify the Department by completing and e-mailing the form on the Department's Web site. The Department may publish on the Department's Web site a list of applicants who submit an intent to apply. This e-mail notification should be sent to pnintent@ed.gov with “PN Intent to Apply” in the subject heading.

Applicants that fail to provide this e-mail notification may still apply for funding.

Page Limit: The application narrative (Part III of the application) is where you, the applicant, address the selection criteria that reviewers use to evaluate your application.

You must limit the application narrative (Part III) to the equivalent of no more than 40 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the memorandum of understanding, or the match commitment. However, the page limit does apply to all of the application narrative section (Part III).

3. Submission Dates and Times:

Applications Available: May 5, 2010.

Deadline for Notice of Intent to Apply: May 21, 2010.

Date of Pre-Application Webinars: Wednesday, May 5, 2010 and Monday, May 10, 2010. These pre-application webinars are designed to provide technical assistance to interested applicants for Promise Neighborhoods planning grants. Detailed information regarding the pre-application webinar times will be available through the Department of Education Web site at http://www.ed.gov/programs/promiseneighborhoods/index.html.

Deadline for Transmittal of Applications: June 25, 2010.

Applications for grants under this program must be submitted electronically using the Electronic Grant Application System (e-Application) accessible through the Department's e-Grants site. For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 24, 2010.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Participation in a Community of Practice: Grantees will be required to participate in, organize, or facilitate, as appropriate, communities of practice for Promise Neighborhoods. A community of practice is a group of grantees that agrees to interact regularly to solve a persistent problem or improve practice in an area that is important to them and the success of their project. Establishment of communities of practice under Promise Neighborhoods will enable grantees to meet, discuss, and collaborate with each other regarding grantee projects.

7. Other Submission Requirements:

Applications for grants under this program must be submitted electronically unless you qualify for an exception to this requirement in accordance with the instructions in this section.

a. Electronic Submission of Applications.

Applications for grants under the Promise Neighborhoods Program—CFDA Number 84.215P must be submitted electronically using e-Application, accessible through the Department's e-Grants Web site at: http://e-grants.ed.gov.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

While completing your electronic application, you will be entering data online that will be saved into a database. You may not e-mail an electronic copy of a grant application to us.

Please note the following:

• You must complete the electronic submission of your grant application by 4:30:00 p.m., Washington, DC time, on the application deadline date. E-Application will not accept an application for this program after 4:30:00 p.m., Washington, DC time, on the application deadline date. Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password protected file, we will not review that material.

• Your electronic application must comply with any page limit requirements described in this notice.

• Prior to submitting your electronic application, you may wish to print a copy of it for your records.

• After you electronically submit your application, you will receive an automatic acknowledgment that will include a PR/Award number (an identifying number unique to your application).

• Within three working days after submitting your electronic application, fax a signed copy of the SF 424 to the Application Control Center after following these steps:

(1) Print SF 424 from e-Application.

(2) The applicant's Authorizing Representative must sign this form.

(3) Place the PR/Award number in the upper right hand corner of the hard-copy signature page of the SF 424.

(4) Fax the signed SF 424 to the Application Control Center at (202) 245-6272.

• We may request that you provide us original signatures on other forms at a later date.

Application Deadline Date Extension in Case of e-Application Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2) (a) E-Application is unavailable for 60 minutes or more between the hours of 8:30 a.m. and 3:30 p.m., Washington, DC time, on the application deadline date; or

(b) E-Application is unavailable for any period of time between 3:30 p.m. and 4:30:00 p.m., Washington, DC time, on the application deadline date.

We must acknowledge and confirm these periods of unavailability before granting you an extension. To request this extension or to confirm our acknowledgment of any system unavailability, you may contact either (1) the person listed elsewhere in this notice under For Further Information Contact (see VII. Agency Contact) or (2) the e-Grants help desk at 1-888-336-8930. If e-Application is unavailable due to technical problems with the system and, therefore, the application deadline is extended, an e-mail will be sent to all registered users who have initiated an e-Application. Extensions referred to in this section apply only to the unavailability of e-Application.

Exception to Electronic Submission Requirement: You qualify for an exception to the electronic submission requirement, and may submit your application in paper format, if you are unable to submit an application through e-Application because--

• You do not have access to the Internet; or

• You do not have the capacity to upload large documents to e-Application; and

• No later than two weeks before the application deadline date (14 calendar days or, if the fourteenth calendar day before the application deadline date falls on a Federal holiday, the next business day following the Federal holiday), you mail or fax a written statement to the Department, explaining which of the two grounds for an exception prevents you from using the Internet to submit your application. If you mail your written statement to the Department, it must be postmarked no later than two weeks before the application deadline date. If you fax your written statement to the Department, we must receive the faxed statement no later than two weeks before the application deadline date.

Address and mail or fax your statement to: Larkin Tackett, U.S. Department of Education, 400 Maryland Avenue, SW., Room 4W338, Washington, DC 20202. Fax: (202) 401-4123.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 215P), LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center, Attention: (CFDA Number 215P), 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: We are establishing selection criteria for the FY 2010 grant competition only in accordance with section 437(d)(1) of GEPA, 20 U.S.C. 1232(d)(1). For these selection criteria, we rely in large part on the criteria in 34 CFR 75.210, with some modifications to tailor the criteria to this program.

The maximum score for all the selection criteria is 100 points. The maximum score for each criterion is indicated in parentheses with the criterion. The selection criteria are as follows:

(1) Need for project (up to 10 points).

(a) The Secretary considers the need for the proposed project.

(b) In determining the need for the proposed project, the Secretary considers—

(i) The magnitude or severity of the problems to be addressed by the proposed project as described by indicators of need and other relevant indicators;

(ii) The extent to which the geographically defined area has been described; and

(iii) The extent to which specific gaps or weaknesses in services, infrastructure, or opportunities will be identified and addressed by the proposed project.

(2) Significance (up to 10 points).

(a) The Secretary considers the significance of the proposed project.

(b) In determining the significance of the proposed project, the Secretary considers—

(i) The likelihood that the proposed project will result in long-term systems change or improvement;

(ii) The extent to which the proposed project is likely to build local capacity to provide, improve, or expand services that address the needs of the target population;

(iii) The extent to which the proposed project involves the development or demonstration of promising new strategies that build on, or are alternatives to, existing strategies; and

(iv) The potential to sustain and apply the model of the proposed project or strategies, including, as appropriate, the potential for implementation of the model in a variety of settings.

(3) Quality of the project design (up to 20 points).

(a) The Secretary considers the quality of the design of the proposed project.

(b) In determining the quality of the design of the proposed project, the Secretary considers the following factors—

(i) The extent to which the applicant describes how it will plan to build a continuum of solutions designed to significantly improve the academic and family and community support indicators in this notice;

(ii) The extent to which the continuum of solutions includes a strategy, or a plan to develop a strategy, that will lead to significant improvements in one or more schools described in paragraph 2 of Absolute Priority 1;

(iii) The extent to which the applicant describes strategies for using data to manage program implementation, inform decision-making, engage stakeholders, and measure success;

(iv) The extent to which the applicant identifies and describes academic and family and community support indicators to be used for the needs assessment during the planning year;

(v) The extent to which the applicant demonstrates a commitment to work with the Department and with a national evaluator for Promise Neighborhoods to ensure that data collection and program design are consistent with plans to conduct a rigorous national evaluation of the Promise Neighborhoods Program during the implementation phase and of specific solutions and strategies pursued by individual grantees; and

(vi) The extent to which the proposed project will be coordinated with similar or related efforts, and with other appropriate community, State, and Federal resources.

(4) Quality of project services (up to 15 points).

(a) The Secretary considers the quality of the services to be provided by the proposed project.

(b) In determining the quality of the project services, the Secretary considers—

(i) The extent to which the applicant describes proposed solutions to be provided by the proposed project that are based on the best available evidence including, where available, strong or moderate evidence;

(ii) The likelihood that the services to be provided by the proposed project will lead to improvements in the achievement of students as measured against rigorous academic standards; and

(iii) The extent to which the applicant explains how the needs assessment and segmentation analysis will be used to determine that children with the highest needs receive appropriate services to meet academic and developmental outcomes.

(5) Quality of project personnel (up to 25 points).

(a) The Secretary considers the quality of the project personnel who will carry out the proposed project.

(b) In determining the quality of the project personnel, the Secretary considers the qualifications, including relevant training and experience, of the applicant, including the project director, and the prior performance of the applicant on efforts similar or related to the proposed Promise Neighborhood.

(c) Relevant experience includes the applicant's experience in and lessons learned by—

(i) Working with the school or schools described in paragraph 2 of Absolute Priority 1;

(ii) Serving the neighborhood and its residents;

(iii) Collecting, analyzing, and using data for decision-making and ongoing improvement;

(iv) Creating formal and informal relationships, and generating community support to achieve results; and

(v) Securing and integrating funding streams from multiple public and private sources.

(6) Quality of the management plan (up to 20 points).

(a) The Secretary considers the quality of the management plan for the proposed project.

(b) In determining the quality of the management plan of the proposed project, the Secretary considers—

(i) The adequacy of the management plan to achieve the objectives of the proposed project on time and within budget, including clearly defined responsibilities, timelines, and milestones for accomplishing project tasks;

(ii) The extent to which the memorandum of understanding described in paragraph 5 of Absolute Priority 1 describes each partner's financial and programmatic commitment; how each partner's existing vision, theory of action, and theory of change, and existing activities align with those of the proposed Promise Neighborhood; and the governance structure of the proposed Promise Neighborhood;

(iii) How the applicant will ensure that a diversity of perspectives are brought to bear in the operation of the proposed project, including those of families, school staff, the business community, a variety of disciplinary and professional fields, recipients or beneficiaries of services, or others, as appropriate; and

(iv) The potential for continued support of the project after Federal funding ends, including, as appropriate, the demonstrated commitment of appropriate entities to sustain and “scale up” the proposed Promise Neighborhood.

To facilitate the review of the application, the Department strongly recommends that applicants include a table of contents for their project narrative and address each of the selection criteria and priorities from Absolute Priority 1 in the order in which they are described in Table 3. After addressing the selection criteria, applicants may address the invitational priority included in the proposal to plan.

Table 3—Recommended Organization of Project Narrative
Selection criteria | Absolute priority one requirement
Need for project (up to 10 points) | 1. Description of the neighborhood and level of distress.
Quality of project design (up to 20 points) | 2. Description of how the applicant will plan to build the continuum;
Quality of project services (up to 15 points) | 8. Description of how the applicant will plan to use data; 9. Description of commitment to work with national evaluator; and
| 10. Description of indicators to be used for needs assessment.
Quality of project personnel (up to 25 points) | 3. Description of the applicant's organizational capacity to plan and implement a Promise Neighborhood.
Quality of management plan (up to 20 points) | 4. Description of how the applicant will plan to sustain and “scale up” the proposed Promise Neighborhood; and
| 5. Description of commitment the applicant anticipates receiving from partners, including the preliminary memorandum of understanding described in paragraph 5(a).
Significance (up to 10 points) | 6. Description of how the applicant will plan to track available sources and funding levels of Federal, State, and local funds that could be utilized in the project; and
| 7. Description of how the applicant will identify Federal, State, or local policies, regulations, or other requirements that would impede the applicant in achieving its goals.

Note: It may also be appropriate for an applicant to address a requirement under more than one selection criterion.

2. Review and Selection Process: The Department will screen applications submitted in accordance with the requirements in this notice, and will determine which applications are eligible to be read based on whether they have met eligibility and other statutory and regulatory requirements.

For the grant reviews, the Department will use independent reviewers from various backgrounds and professions including: Pre-kindergarten-12 teachers and principals, college and university educators, researchers and evaluators, social entrepreneurs, strategy consultants, grant makers and managers, community development practitioners (in areas such as health or safety), and others with education expertise. The Department will thoroughly screen all reviewers for conflicts of interest to ensure a fair and competitive review process.

Reviewers will read, prepare a written evaluation, and score the applications assigned to their panel, using the selection criteria provided in this notice.

For applications addressing Absolute Priority 1, Absolute Priority 2, and Absolute Priority 3, the Secretary prepares a rank order of applications for each absolute priority based solely on the evaluation of their quality according to the selection criteria. In accordance with 34 CFR 75.217(d), the Secretary will make final awards after considering the rank ordering and other information including an applicant's performance and use of funds and compliance history under a previous award under any Department program. In making awards under any future competitions, the Secretary will consider an applicant's past performance.

VI. Award Administration Information

1. Award Notices: If your application is successful, we notify your U.S. Representative and U.S. Senators and send you a Grant Award Notification (GAN). We may notify you informally also.

If your application is not evaluated or not selected for funding, we notify you.

2. Administrative and National Policy Requirements: We identify administrative and national policy requirements in the application package and reference these and other requirements in the Applicable Regulations section of this notice.

We reference the regulations outlining the terms and conditions of an award in the Applicable Regulations section in this notice and include these and other specific conditions in the GAN. The GAN also incorporates your approved application as part of your binding commitments under the grant.

3. Reporting: At the end of your project period, you must submit a final performance report, including financial information, as directed by the Secretary. The Secretary may also require more frequent performance reports under 34 CFR 75.720(c). For specific requirements on reporting, please go to http://www.ed.gov/fund/grant/apply/appforms/appforms.html.

4. Performance Measures: The Secretary has established one performance indicator: The percentage of planning grantees that produce a high-quality plan as measured by their receiving at least 90 percent of the total possible points in the competition for FY 2011 implementation grants. All grantees will be required to submit a final performance report documenting their contribution in assisting the Department in measuring the performance of the program against this indicator, as well as other information requested by the Department.

VII. Agency Contact

For Further Information Contact: Larkin Tackett, U.S. Department of Education, 400 Maryland Avenue, SW., Room 4W338, Washington, DC 20202-5970. Telephone: (202) 453-6615 or by e-mail: promiseneighborhoods@ed.gov.

If you use a TDD, call the FRS, toll free, at 1-800-877-8339.

VIII. Other Information

Accessible Format: Individuals with disabilities can obtain this document and a copy of the application package in an accessible format (e.g., braille, large print, audiotape, or computer diskette) on request to the program contact person listed under For Further Information Contact in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: April 29, 2010.
James H. Shelton, III,
Assistant Deputy Secretary for Innovation and Improvement.

[FR Doc. 2010-10492 Filed 5-4-10; 8:45 am]

BILLING CODE 4000-01-P